DEPARTMENT OF TRANSPORTATION

Federal Aviation Administration

14 CFR Part 39

[Docket No. FAA-2005-22425; Directorate Identifier 2005-NM-066-AD]

RIN 2120-AA64

Airworthiness Directives; McDonnell Douglas Model DC-8-33, DC-8-51, DC-8-53, DC-8-55, DC-8F-54, DC-8F-55, DC-8-63, DC-8-62F, DC-8-63F, DC-8-71, DC-8-73, DC-8-71F, DC-8-72F, and DC-8-73F Airplanes

AGENCY: Federal Aviation Administration (FAA), Department of Transportation (DOT).

ACTION: Notice of proposed rulemaking (NPRM).

SUMMARY: The FAA proposes to adopt a new airworthiness directive (AD) for certain transport category airplanes, identified above. This proposed AD would require repetitive inspections for cracks of the doorjamb corners of the main cargo door, and repair if necessary. This proposed AD also provides an optional preventive modification that extends certain repetitive intervals. This proposed AD results from reports of cracks in the fuselage skin at the corners of the doorjamb for the main cabin cargo door. We are proposing this AD to detect and correct fatigue cracks in the fuselage skin, which could result in rapid decompression of the airplane.

DATES: We must receive comments on this proposed AD by October 31, 2005.

ADDRESSES: Use one of the following addresses to submit comments on this proposed AD.

• DOT Docket Web site: Go to http://dms.dot.gov and follow the instructions for sending your comments electronically.

• Government-Wide Rulemaking Web Site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024), for the service information identified in this proposed AD.

FOR FURTHER INFORMATION CONTACT: Jon Mowery, Aerospace Engineer, Airframe Branch, ANM-120L, FAA, Los Angeles Aircraft Certification Office, 3960 Paramount Boulevard, Lakewood, California 90712-4137; telephone (562) 627-5322; fax (562) 627-5210.

SUPPLEMENTARY INFORMATION:

Comments Invited

We invite you to submit any relevant written data, views, or arguments regarding this proposed AD. Send your comments to an address listed in the ADDRESSES section. Include the docket number “FAA-2005-22425; Directorate Identifier 2005-NM-066-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received reports of cracks in the fuselage skin at the corners of the doorjamb for the main cabin cargo door on McDonnell Douglas Model DC-8-71F airplanes. Cracks were found on airplanes that had accumulated 14,600 landings. The manufacturer's investigation showed that the cracks resulted from fatigue stress. Fatigue cracks, if not corrected, could progress and result in rapid decompression of the airplane.

Other Relevant Rulemaking

On January 11, 1993, we issued AD 93-01-15, amendment 39-8469 (58 FR 5576, January 22, 1993). We issued that AD to ensure the continuing structural integrity of McDonnell Douglas Model DC-8 airplanes. That AD requires revising the FAA-approved maintenance inspection program, which provides for inspection of the Principal Structural Elements (PSEs) identified in McDonnell Douglas Report No. L26-011, “DC-8 Supplemental Inspection Document (SID).” That AD also requires reporting results of inspections to McDonnell Douglas, and repairing any cracked structure detected during the inspections.

Relevant Service Information

We have reviewed Boeing Service Bulletin DC8-53-079, Revision 01, dated June 26, 2002. The service bulletin describes procedures for repetitive inspections for cracks of the doorjamb corners of the main cargo door. The inspections include radiographic, high frequency eddy current (HFEC), and visual (optically aided) inspections. Each inspection type is repeated in combination (e.g., radiographic and HFEC together) at varying intervals that range from 4,937 landings to 11,325 landings depending on the type of inspection. These intervals are described in Table 1 of paragraph 1.E. “Compliance” of the service bulletin.

If any crack is found that is 2.50 inches in length or less, the service bulletin describes procedures for repairing the fuselage skin and installing an external doubler. If any crack is found that is greater than 2.50 inches in length, the service bulletin specifies contacting the manufacturer for repair instructions and for reporting certain information. The service bulletin also gives procedures for a preventive modification of installing an external doubler at the corner of the main cabin cargo doorjamb.

After any modification or repair, the service bulletin specifies that operators should inspect again for cracks of the modified or repaired doorjamb corner within 17,000 landings after doing the modification or repair, and then repeat the inspection at intervals not to exceed 4,400 landings.

Accomplishing the actions specified in the service information is intended to adequately address the unsafe condition.

The inspection program in Revision 01 of the service bulletin is an alternative method of compliance (AMOC) for the requirements of paragraphs (a) and (b) of AD 93-01-15 for the specified areas of PSE 53.08.044.

FAA's Determination and Requirements of the Proposed AD

We have evaluated all pertinent information and identified an unsafe condition that is likely to exist or develop on other airplanes of this same type design. For this reason, we are proposing this AD, which would require accomplishing the actions specified in the service information described previously, except as discussed under “Differences Between the Proposed AD and the Service Bulletin.”

Differences Between the Proposed AD and the Service Bulletin

The service bulletin specifies to contact the manufacturer for instructions on how to repair certain conditions, but this proposed AD would require repairing those conditions in one of the following ways:

• Using a method that we approve; or

• Using data that meet the certification basis of the airplane, and that have been approved by an Authorized Representative for the Boeing Commercial Airplanes Delegation Option Authorization (DOA) Organization whom we have authorized to make those findings.

Operators should note that, although the Accomplishment Instructions of the service bulletin describe procedures for submitting certain information to the manufacturer, this AD would not require that action.

Clarification of Inspection Language

In this proposed AD, the “visual (optically aided)” inspection specified in the Boeing service bulletin is referred to as a “detailed inspection.” We have included the definition for a detailed inspection in a note in the proposed AD.

Costs of Compliance

There are about 225 airplanes of the affected design in the worldwide fleet. The following table provides the estimated costs for U.S. operators to comply with this proposed AD.

Estimated Costs
Action | Work hours | Average labor rate per hour | Parts | Cost per airplane | Number of U.S.-registered airplanes | Fleet cost
Inspection, per inspection cycle | 20 | $65 | None | $1,300, per inspection cycle | 166 | $215,800, per inspection cycle.
Optional preventive modification (per corner) | 80 | 65 | $26,881 to $30,913 (per corner, depending on airplane configuration) | $32,081 to $36,113 | Up to 166 | Up to between $5,325,446 and $5,994,758 (for one corner).

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

McDonnell Douglas: Docket No. FAA-2005-22425; Directorate Identifier 2005-NM-066-AD.

Comments Due Date

(a) The FAA must receive comments on this AD action by October 31, 2005.

Affected ADs

(b) None.

Applicability

(c) This AD applies to McDonnell Douglas Model DC-8-33, DC-8-51, DC-8-53, DC-8-55, DC-8F-54, DC-8F-55, DC-8-63, DC-8-62F, DC-8-63F, DC-8-71, DC-8-73, DC-8-71F, DC-8-72F, and DC-8-73F airplanes, certificated in any category; as identified in Boeing Service Bulletin DC8-53-079, Revision 01, dated June 26, 2002.

Unsafe Condition

(d) This AD results from reports of cracks in the fuselage skin at the corners of the doorjamb for the main cabin cargo door. We are issuing this AD to detect and correct fatigue cracks in the fuselage skin, which could result in rapid decompression of the airplane.

Compliance

(e) You are responsible for having the actions required by this AD performed within the compliance times specified, unless the actions have already been done.

Inspections

(f) At the applicable time in paragraph (f)(1) or (f)(2) of this AD: Do detailed, high frequency eddy current, and radiographic inspections, as applicable, for cracks of the doorjamb corners of the main cargo door in accordance with the Accomplishment Instructions of Boeing Service Bulletin DC8-53-079, Revision 01, dated June 26, 2002. Except as provided by paragraph (g) and (h) of this AD, repeat the inspections thereafter at intervals not to exceed the applicable intervals specified in Table 1 of Paragraph 1.E. “Compliance” of the service bulletin.

(1) For airplanes that have been converted from passenger to cargo under Amended Type Certificate Data Sheet 4A25, Notes 25 and 26, and McDonnell Douglas Supplemental Type Certificates SA3749WE and SA3403WE: Within 15,000 flight cycles after the conversion; or within 12 months after the effective date of this AD; whichever occurs later.

(2) For airplanes that have not been converted from passenger to cargo: Before the accumulation of 15,000 total flight cycles, or within 3,000 flight cycles after the effective date of this AD, whichever occurs later.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Corrective Actions and New Repetitive Intervals

(g) If any crack is found during any inspection required by this AD, before further flight: Do the applicable action in paragraph (g)(1) or (g)(2) of this AD in accordance with the Accomplishment Instructions of Boeing Service Bulletin DC8-53-079, Revision 01, dated June 26, 2002.

(1) For any corner where all cracks are 2.50 inches or less in length, install an external doubler in accordance with the service bulletin: Before the accumulation of 17,000 flight cycles after the installation, do the next inspection of that corner as specified in paragraph (f) of this AD. Repeat the inspections in paragraph (f) of this AD for that corner thereafter at intervals not to exceed 4,400 flight cycles.

(2) For any corner where any crack is greater than 2.50 inches in length, repair the crack using a method approved in accordance with paragraph (k) of this AD.

Optional Preventive Modification

(h) Installing an external doubler on a corner in accordance with the Accomplishment Instructions of Boeing Service Bulletin DC8-53-079, Revision 01, dated June 26, 2002, terminates the repetitive inspection intervals of paragraph (f) of this AD for that corner. Before the accumulation of 17,000 flight cycles after the installation: Do the next inspection of that corner, as specified in paragraph (f) of this AD. Repeat the inspections in paragraph (f) of this AD for that corner thereafter at intervals not to exceed 4,400 flight cycles.

No Reporting Required

(i) Although the service bulletin referenced in this AD specifies to submit certain information to the manufacturer, this AD does not include that requirement.

Actions Accomplished in Accordance With Previous Issue of Service Bulletin

(j) Actions accomplished before the effective date of this AD in accordance with Boeing Service Bulletin DC8-53-079, dated January 31, 2001, are acceptable for compliance with the corresponding action in this AD.

Alternative Methods of Compliance (AMOCs)

(k)(1) The Manager, Los Angeles Aircraft Certification Office (ACO), FAA, has the authority to approve AMOCs for this AD, if requested in accordance with the procedures found in 14 CFR 39.19.

(2) An AMOC that provides an acceptable level of safety may be used for any repair required by this AD, if it is approved by an Authorized Representative for the Boeing Commercial Airplanes Delegation Option Authorization Organization who has been authorized by the Manager, Los Angeles ACO, to make those findings. For a repair method to be approved, the repair must meet the certification basis of the airplane and 14 CFR 25.571, Amendment 45, and the approval must specifically refer to this AD.

(3) Inspections required by this AD of specified areas of Principal Structural Element (PSE) 53.08.044 are acceptable for compliance with the applicable requirements of paragraphs (a) and (b) of AD 93-01-15, amendment 39-8469 (58 FR 5576, January 22, 1993). The remaining areas of the affected PSEs must be inspected and repaired as applicable, in accordance with AD 93-01-15.

Issued in Renton, Washington, on September 7, 2005.
Kalene C. Yanamura,
Acting Manager, Transport Airplane Directorate, Aircraft Certification Service.

[FR Doc. 05-18401 Filed 9-15-05; 8:45 am]

BILLING CODE 4910-13-P